NATIONAL AERONAUTICS AND SPACE ADMINISTRATION

[Notice 02-067]

Aerospace Safety Advisory Panel; Meeting

AGENCY: National Aeronautics and Space Administration.

ACTION: Notice of meeting.

SUMMARY: In accordance with the Federal Advisory Committee Act, Public Law 92-463, as amended, the National Aeronautics and Space Administration announces a forthcoming meeting of the Aerospace Safety Advisory Panel.

DATES: Thursday, June 20, 2002, 8 a.m. to 12 Noon.

ADDRESSES: Country Inns & Suites-Huntsville, 4880 University Drive, Huntsville, AL 35816. Tele: (256) 837-4070. The meeting will be held in the Commons Room.

FOR FURTHER INFORMATION CONTACT: Mr. David M. Lengyel, Code Q-1, National Aeronautics and Space Administration, Washington, DC 20546, 202/358-0391. Members of the public should contact Ms. Vickie Smith on 202/358-1650, if you plan to attend.

SUPPLEMENTARY INFORMATION: The Aerospace Safety Advisory Panel will meet to deliberate topics for inclusion in its Annual Report for 2002. This is pursuant to carrying out its statutory duties for which the Panel reviews, identifies, evaluates, and advises on those program activities, systems, procedures, and management activities that can contribute to program risk. Priority is given to those programs that involve the safety of human flight. The Aerospace Safety Advisory Panel is currently chaired by Ms. Shirley C. McCarty and is composed of 9 members and 7 consultants.

The meeting will be open to the public up to the capacity of the room (approximately 40 persons including members of the Panel). It is imperative that the meeting be held on this date to accommodate the scheduling priorities of the key participants. Members of the public will be requested to sign a visitor's register.

Dated: May 22, 2002.
Sylvia K. Kraemer,
Advisory Committee Management Officer, National Aeronautics and Space Administration.

[FR Doc. 02-13460 Filed 5-29-02; 8:45 am]

BILLING CODE 7510-01-P